ENVIRONMENTAL PROTECTION AGENCY

[FRL-6989-2]

Agency Information Collection Activities: Submission for OMB Review; Comment Request; Clean Air Act Tribal Authority

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: Clean Air Act Tribal Authority (OMB Control No. 2060-0306), expiring May 31, 2001. The ICR describes the nature of the information collection and its expected burden and cost; where appropriate, it includes the actual data collection instrument.

DATES: Comments must be submitted on or before July 2, 2001.

ADDRESSES: Send comments, referencing EPA ICR No. 1676.03 and OMB Control No. 2060-0306, to the following addresses: Sandy Farmer, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION OR A COPY: Contact Sandy Farmer at EPA by phone at (202) 260-2740, by email at farmer.sandy@epamail.epa.gov, or download off the Internet at http://www.epa.gov/icr and refer to EPA ICR No. 1676.02. For technical questions about the ICR contact Hollis Hope at EPA by phone at (202) 564-7434.

SUPPLEMENTARY INFORMATION: Title: Clean Air Act Tribal Authority (OMB Control No. 2060-0306 ; EPA ICR No. 1676.03.) expiring May 31, 2001. This is a request for an extension of the currently approved collection.

Abstract: This ICR requests clearance of EPA's review and approval process for determining Tribal eligibility to carry out the Clean Air Act (CAA). Tribes may choose to submit a CAA eligibility determination and a CAA program application to EPA at the same time for approval and EPA will review both submittals simultaneously.

The program regulation provides for Indian Tribes, if they so choose, to assume responsibility for the development and implementation of CAA programs. The regulation, Indian Tribes: Air Quality Planning and Management (the Tribal Authority Rule (TAR)), sets forth how Tribes may seek authority to implement their own air quality planning and management programs. The rule establishes: (1) Which CAA provisions Indian Tribes may seek authority to implement, (2) what requirements the Tribes must meet when seeking such authorization, and (3) what Federal financial assistance may be available to help Tribes establish and manage their air quality programs. The TAR provides Tribes the authority to administer air quality programs over all air resources, including non-Indian owned fee lands, within the exterior boundaries of a reservation and other areas over which the tribe can demonstrate jurisdiction. An Indian Tribe that takes responsibility for a CAA program would essentially be treated in the same way as a State would be treated for that program.

To be eligible for delegation of CAA programs, an Indian Tribe must submit documentation showing they meet the following criteria: (1) Be recognized by the Federal government (CAA section 302(r)), (2) have an existing governing body, which carries out governmental duties (such as tax and police functions), (3) show that the management and protection of air resources applies within the exterior boundaries of the reservation or other areas within the Tribe's jurisdiction, and (4) be reasonably expected to be capable of implementing all applicable regulations.

In evaluating a Tribe's demonstration of program implementation capability, EPA considers their management and technical skills by reviewing the following factors: (1) Tribe's previous management experience, (2) existing environmental or public health programs administered, (3) mechanism(s) in place for carrying out the executive, legislative and judicial functions of the Tribal government, (4) the relationship between regulated entities and regulating administrative agency, and (5) the technical and administrative capabilities of the staff. Tribes with limited management and technical skills can also submit a plan detailing steps for acquiring those skills.

The TAR adopts EPA's “streamlined” eligibility review and approval process for Tribes to implement CAA programs. EPA will use this information to determine if a Tribe meets the statutory criteria under section 301(d) of the CAA and is qualified for purposes of implementing an Air Quality Program. Section 114 of the CAA is the authority for the collection of information.

An agency may not conduct or sponsor, and a person is not required to respond to, a collection of information unless it displays a currently valid OMB control number. The OMB Federal Register document required under 5 CFR 1320.8(d), soliciting comments on this collection of information was published on March 7, 2001; (66 FR 13724). No comments were received.

Burden Statement: The annual public reporting and record keeping burden for this collection of information is estimated to average 40 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: All 561 federally recognized Tribes.

Estimated Number of Respondents: 22.

Frequency of Response: Once, at the time of application.

Estimated Total Annual Hour Burden: 293.

Estimated Total Annualized Capital, Operating/Maintenance Cost Burden: 0.

Send comments on the Agency's need for this information, the accuracy of the provided burden estimates, and any suggested methods for minimizing respondent burden, including through the use of automated collection techniques to the addresses listed above. Please refer to EPA ICR No. 1676.03 and OMB Control No. 2060-0306 in any correspondence.

Dated: May 2, 2001.
Oscar Morales,
Director, Collection Strategies Division.

[FR Doc. 01-13841 Filed 5-31-01; 8:45 am]

BILLING CODE 6560-50-P